NUCLEAR REGULATORY COMMISSION

[DC/COL-ISG-017; NRC-2009-0380]

Office of New Reactors; Interim Staff Guidance on Ensuring Hazard-Consistent Seismic Input for Site Response and Soil Structure Interaction Analyses

AGENCY: Nuclear Regulatory Commission (NRC).

ACTION: Notice of availability.

SUMMARY: The NRC staff is issuing its Final Interim Staff Guidance (ISG) DC/COL-ISG-017 titled “Ensuring Hazard-Consistent Seismic Input for Site Response and Soil Structure Interaction Analyses,” (Agencywide Documents Access and Management System (ADAMS) Accession No. ML100570203). This ISG supplements the guidance provided to the NRC staff in Sections 2.5 and 3.7 of NUREG-0800, “Standard Review Plan (SRP) for the Review of Safety Analysis Reports for Nuclear Power Plants,” March 2007, and DC/COL-ISG-01, “Interim Staff Guidance on Seismic Issues Associated with High Frequency Ground Motion in Design Certification and Combined License Applications,” issued May 19, 2008 (ADAMS Accession No. ML081400293). The NRC staff issues DC/COL-ISGs to facilitate timely implementation of current staff guidance and to facilitate activities associated with review of applications for design certifications and combined licenses by the Office of New Reactors. The NRC staff intends to incorporate the final approved DC/COL-ISG-017 into the next revision of SRP Sections 2.5 and 3.7 and Regulatory Guide 1.206, “Combined License Applications for Nuclear Power Plants (LWR Edition),” June 2007.

Disposition: On August 31, 2009, the NRC staff issued the proposed ISG, DC/COL-ISG-017, “Ensuring Hazard-Consistent Seismic Input for Site Response and Soil Structure Interaction Analyses,” (ADAMS Accession No. ML092230455) to solicit public and industry comment. The NRC staff received comments on the proposed guidance. This final issuance incorporates changes from the comments. The NRC staff responses to these comments can be found in ADAMS Accession No. ML100570289.

ADDRESSES: The NRC maintains ADAMS, which provides text and image files of NRC's public documents. These documents may be accessed through the NRC's Public Electronic Reading Room on the Internet at http://www.nrc.gov/reading-rm/adams.html. Persons who do not have access to ADAMS, or who encounter problems in accessing the documents located in ADAMS, should contact the NRC Public Document Room reference staff at 1-800-397-4209, 301-415-4737, or by e-mail to pdr.resource@nrc.gov.

FOR FURTHER INFORMATION CONTACT: Dr. Kimberly A. Hawkins, Chief, Structural Engineering Branch 2, Division of Engineering, Office of the New Reactors, U.S. Nuclear Regulatory Commission, Washington, DC 20555-0001; telephone: 301-415-0564 or e-mail: Kimberly.Hawkins@nrc.gov.

SUPPLEMENTARY INFORMATION: The agency posts its issued staff guidance in the agency external web page (http://www.nrc.gov/reading-rm/doc-collections/isg/).

Dated at Rockville, Maryland, this 24th day of March 2010.
For the Nuclear Regulatory Commission.
William F. Burton,
Chief, Rulemaking and Guidance Development Branch, Division of New Reactor Licensing, Office of New Reactor.

[FR Doc. 2010-7202 Filed 3-30-10; 8:45 am]

BILLING CODE 7590-01-P